DEPARTMENT OF TRANSPORTATION

Federal Aviation Administration

Policy Statement on Standardization of Application Regarding Hazardous Misleading Heading Information for Attitude-Heading Reference Systems (AHRS); PS-ACE100-2002-003

AGENCY: Federal Aviation Administration (FAA), DOT.

ACTION: Notice of proposed policy statement; request for comments.

SUMMARY: This notice announces the availability of, and request for comments for, a proposed policy statement on the standardization of application of 14 CFR part 23, § 23.1309 regarding hazardous misleading heading information for attitude-heading reference systems (AHRS); PS-ACE100-2002-003.

DATES: Comments sent must be received by February 10, 2003.

FOR FURTHER INFORMATION CONTACT: Erv Dvorak, Aerospace Engineer, FAA, Small Airplane Directorate, 901 Locust, room 301, Kansas City, Missouri 64106; telephone: (816) 329-4123; facsimile: (816) 329-4123.

SUPPLEMENTARY INFORMATION:

Discussion

You may download a copy from the FAA Web site at <http://www.faa.gov/certification/ aircraft/small_airplane_ directorate_news_proposed.htm>, or request a copy by contacting the person named above under FOR FURTHER INFORMATION CONTACT.

This proposed policy's purpose is to clarify Federal Aviation Administration (FAA) certification policy on the application of Advisory Circular (AC) 23.1309-1C, Equipment, Systems, and Installations in Part 23 Airplanes, regarding hazardous misleading heading information.

The issue in question is specifically about the application of AC 23.1309-1C for an airplane with the certification basis under amendments 23-41 or later. This clarification is limited to installations approved for operation in Instrument Meteorological Conditions (IMC) under Instrument Flight Rules (IFR).

Issued in Kansas City, Missouri on November 18, 2002.
Dorenda D. Baker,
Acting Manager, Small Airplane Directorate, Aircraft Certification Service.

[FR Doc. 02-30052 Filed 12-11-02; 8:45 am]

BILLING CODE 4910-13-P